DEPARTMENT OF THE INTERIOR

National Park Service

[NPS-WASO-NAGPRA-NPS0040074; PPWOCRADN0-PCU00RP14.R50000]

Notice of Inventory Completion: Autry Museum of the American West, Los Angeles, CA

AGENCY: National Park Service, Interior.

ACTION: Notice.

SUMMARY: In accordance with the Native American Graves Protection and Repatriation Act (NAGPRA), the Autry Museum of the American West (Southwest Museum Collection) has completed an inventory associated funerary objects and has determined that there is a cultural affiliation between the associated funerary object and Indian Tribes or Native Hawaiian organizations in this notice.

DATES: Repatriation of the associated funerary object in this notice may occur on or after June 9, 2025.

ADDRESSES: Karimah Richardson, M.Phil., RPA, Associate Curator of Anthropology and Repatriation Supervisor, Autry Museum of the American West, 4700 Western Heritage Way, Los Angeles, CA 90027, telephone (323) 495-4203, email krichardson@theautry.org.

SUPPLEMENTARY INFORMATION: This notice is published as part of the National Park Service's administrative responsibilities under NAGPRA. The determinations in this notice are the sole responsibility of the Autry Museum of the American West, and additional information on the determinations in this notice, including the results of consultation, can be found in the inventory or related records. The National Park Service is not responsible for the determinations in this notice.

Abstract of Information Available

Based on the information available, one associated funerary object has been found to be associated with human remains listed in a Notice of Inventory Completion published in the Federal Register on September 13, 2007 (72 FR 52390-52391) and repatriated. The associated funerary object is one chert triangular point. In 1914, Mr. Edwin J. Blakeslee collected a human skull (964.G.255) with an embedded arrowpoint (964.G.603) from Amazonia Mound, north of St. Joseph, MO. The human remains with the embedded arrowpoint were given to the Dyer Museum at an unknown date, before making its way to the St. Joseph Museum also at an unknown date. Sometime between 1930-1943, St. Joseph Museum's curator Mr. Oscar Branson gave or sold the cultural items to Mr. John G. Braecklein who gifted the items to the Southwest Museum (now part of the Autry Museum). The arrowpoint was gifted in 1944, a year after the human remains and was given its own object number.

Cultural Affiliation

Based on the information available and the results of consultation, cultural affiliation is reasonably identified by the geographical location or acquisition history of the associated funerary object described in this notice.

Determinations

The Autry Museum of the American West has determined that:

• The one object described in this notice is reasonably believed to have been placed intentionally with or near individual human remains at the time of death or later as part of the death rite or ceremony.

• There is a reasonable connection between the associated funerary object described in this notice and the Iowa Tribe of Kansas and Nebraska and the Pawnee Nation of Oklahoma.

Requests for Repatriation

Written requests for repatriation of the associated funerary object in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary object in this notice to a requestor may occur on or after June 9, 2025. If competing requests for repatriation are received, the Autry Museum of the American West must determine the most appropriate requestor prior to repatriation. Requests for joint repatriation of the associated funerary object are considered a single request and not competing requests. The Autry Museum of the American West is responsible for sending a copy of this notice to the Indian Tribes and Native Hawaiian organizations identified in this notice.

Authority: Native American Graves Protection and Repatriation Act, 25 U.S.C. 3003, and the implementing regulations, 43 CFR 10.10.

Dated: April 22, 2025.
Melanie O'Brien,
Manager, National NAGPRA Program.

[FR Doc. 2025-08040 Filed 5-7-25; 8:45 am]

BILLING CODE 4312-52-P